DEPARTMENT OF THE INTERIOR

Fish and Wildlife Service

[FWS-R8-R-2009-N0070; 80230-1265-0000-S3]

Butte Sink, Willow Creek-Lurline, and North Central Valley Wildlife Management Areas; Tehama, Butte, Glenn, Colusa, Yuba, Sutter, Placer, Yolo, Solano, Contra Costa, and San Joaquin Counties, CA

AGENCY: Fish and Wildlife Service, Interior.

ACTION: Notice of intent to prepare a comprehensive conservation plan and environmental assessment; request for comments.

SUMMARY: We, the U.S. Fish and Wildlife Service (Service), intend to prepare a comprehensive conservation plan (CCP) and environmental assessment (EA) for Butte Sink, Willow Creek-Lurline, and North Central Valley Wildlife Management Areas (WMAs). The WMAs are part of the Sacramento National Wildlife Refuge Complex. We provide this notice in compliance with our CCP policy to advise other Federal and State agencies, Tribes, and the public of our intentions, and to obtain suggestions and information on the scope of issues to consider in the planning process.

DATES: To ensure consideration, we must receive your written comments by January 15, 2010. We will announce opportunities for public input in local news media throughout the CCP process.

ADDRESSES: Send your comments or requests for more information by any of the following methods.

E-mail: Jackie_Ferrier@fws.gov. Include “CCP” in the subject line of the message.

Fax: Attn: Jackie Ferrier, (530) 934-7814.

U.S. Mail: Sacramento National Wildlife Refuge, 752 County Road 99W, Willows, California, 95988.

In-Person Drop-off: You may drop off comments during regular business hours at the above address.

Additional information about the CCP planning process is available on the Internet at http://sacramentovalleyrefuges.fws.gov.

FOR FURTHER INFORMATION CONTACT: Greg Mensik, Acting Project Leader, at (530) 934-2801 or Jackie Ferrier, Planning Team Leader, at (530) 934-2801.

SUPPLEMENTARY INFORMATION:

Introduction

With this notice, we initiate our process for developing a CCP for Butte Sink, Willow Creek-Lurline, and North Central Valley WMAs, in Tehama, Butte, Glenn, Colusa, Yuba, Sutter, Placer, Yolo, Solano, Contra Costa, and San Joaquin counties, CA. This notice complies with our CCP policy to (1) Advise other Federal and State agencies, Tribes, and the public of our intention to conduct detailed planning on this refuge and (2) obtain suggestions and information on the scope of issues to consider in the environmental document and during development of the CCP.

Background

The CCP Process

The National Wildlife Refuge System Improvement Act of 1997 (16 U.S.C. 668dd-668ee) (Improvement Act), which amended the National Wildlife Refuge System Administration Act of 1966, requires us to develop a CCP for each national wildlife refuge. The purpose for developing a CCP is to provide refuge managers with a 15-year plan for achieving refuge purposes and contributing toward the mission of the National Wildlife Refuge System, consistent with sound principles of fish and wildlife management, conservation, legal mandates, and our policies. In addition to outlining broad management direction on conserving wildlife and their habitats, CCPs identify wildlife-dependent recreational opportunities available to the public, including opportunities for hunting, fishing, wildlife observation and photography, and environmental education and interpretation. We will review and update the CCP at least every 15 years in accordance with the Improvement Act.

Each unit of the National Wildlife Refuge System was established for specific purposes. We use these purposes as the foundation for developing and prioritizing the management goals and objectives for each refuge within the National Wildlife Refuge System mission, and to determine how the public can use each refuge. The planning process is a way for us and the public to evaluate management goals and objectives that will ensure the best possible approach to wildlife, plant, and habitat conservation, while providing for wildlife-dependent recreation opportunities that are compatible with each refuge's establishing purposes and the mission of the National Wildlife Refuge System.

Our CCP process provides participation opportunities for Tribal, State, and local governments; agencies; organizations; and the public. At this time we encourage input in the form of issues, concerns, ideas, and suggestions for the future management of [the] North Central Valley, Willow Creek-Lurline, and Butte Sink WMAs.

We will conduct the environmental review of this project and develop an EA in accordance with the requirements of the National Environmental Policy Act of 1969, as amended (NEPA) (42 U.S.C. 4321 et seq.); NEPA regulations (40 CFR parts 1500-1508); other appropriate Federal laws and regulations; and our policies and procedures for compliance with those laws and regulations.

Butte Sink, Willow Creek-Lurline, and North Central Valley Wildlife Management Areas

Sacramento NWRC consists of five NWRs and three wildlife management areas. This CCP will include Butte Sink, Willow Creek-Lurline, and North Central Valley WMAs. The Butte Sink WMA was established in 1979 and currently consists of 733 acres of fee title lands and 35 conservation easements on approximately 10,260 acres. The acquisition objective for the Butte Sink WMA has been met. The Willow Creek-Lurline WMA was established in 1985 and currently consists of 84 conservation easements on approximately 5,795 acres; with an approved acquisition objective of 8,000 acres within Glenn and Colusa counties. The North Central Valley WMA was established in 1991 and currently consists of approximately 1,732 acres of fee title lands and 28 conservation easements on approximately 14,740 acres; with an approved acquisition objective of 55,000 acres within eleven counties.

The vast majority of wetlands in the Central Valley have been converted to agricultural, industrial, and urban development. The WMAs consist of intensively managed wetlands, associated uplands and riparian habitats that support large concentrations of migratory birds and many other wetland-dependent species. Collectively, these lands play a significant role in supporting approximately forty percent of Pacific Flyway wintering waterfowl populations.

Scoping: Preliminary Issues, Concerns, and Opportunities

We have identified preliminary issues, concerns, and opportunities that could be addressed in the CCP. These issues are briefly summarized below. During public scoping additional issues may be identified.

During the CCP planning process, the Service will evaluate: Methods for enhancing the wildlife and habitat resources, water supply and quality, mosquito control/public health, long-term easement compliance monitoring, and future acquisitions. Visitor service opportunities on fee title lands will also be evaluated.

Public Meetings

We will give the public an opportunity to provide input at public meetings. You can obtain the schedule from the planning team leader or project leader (see addresses). You may also submit comments anytime during the planning process by mail, e-mail, or fax (see ADDRESSES). There will be additional opportunities to provide public input once we have prepared a draft CCP.

Public Availability of Comments

Before including your address, phone number, e-mail address, or other personal identifying information in your comment, you should be aware that your entire comment—including your personal identifying information—may be made publicly available at any time. While you can ask us in your comment to withhold your personal identifying information from public review, we cannot guarantee that we will be able to do so.

Dated: November 20, 2009.
Ren Lohoefener,
Regional Director, Pacific Southwest Region, Sacramento, California.

[FR Doc. E9-28567 Filed 11-27-09; 8:45 am]

BILLING CODE 4310-55-P